DEPARTMENT OF COMMERCE

National Oceanic and Atmospheric Administration

RIN 0648-XE970

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Community Advisory Board (CAB) will hold a two-day meeting that is open to the public.

DATES: The CAB meeting will begin Wednesday, November 2, 2016 at 8 a.m. and recess when business for the day is completed. It will continue at 8 a.m. Thursday, November 3, 2016, adjourning when business for the day is completed.

ADDRESSES:

Meeting address: The meeting will be held at the Hotel Deca, Grand Ballroom, 4507 Brooklyn Avenue NE., Seattle, WA 98105; telephone: (206) 634-2000.

Council address: Pacific Council, 7700 NE. Ambassador Place, Suite 101, Portland, OR 97220-1384.

FOR FURTHER INFORMATION CONTACT: Mr. Jim Seger, Pacific Council; telephone: (503) 820-2416.

SUPPLEMENTARY INFORMATION: The primary purpose of the CAB meeting is to develop recommendations for the Pacific Council pertaining to plans for its five-year review of the groundfish trawl catch share program (implemented pursuant to Amendment 20 of its groundfish fishery management plan). The CAB's immediate task is to comment on the detailed outline (blueprint) for the review document. The CAB may also begin some initial work on the identification of issues that may be taken up as follow-on regulatory actions pursuant to the results of the review. Additionally, the CAB will receive a presentation from the Northwest Fisheries Science Center, Economic Data Collection Program on data collected from catch share program participants. The CAB's recommendations on the review will be conveyed for consideration by the Pacific Council at its November meeting in Garden Grove, California. During the November meeting, the Council will provide guidance to analysts that will be drafting the review.

Although non-emergency issues not contained in the meeting agenda may be discussed, those issues may not be the subject of formal action during the meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 10 business days prior to the meeting date.

Dated: October 14, 2016.
Tracey L. Thompson,
Acting Deputy Director, Office of Sustainable Fisheries, National Marine Fisheries Service.

[FR Doc. 2016-25263 Filed 10-18-16; 8:45 am]

BILLING CODE 3510-22-P